DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before November 24, 2010. Address written comments to Statutory Import Programs Staff, Room 3720, U.S. Department of Commerce, Washington, DC 20230. Applications may be examined between 8:30 a.m. and 5 p.m. at the U.S. Department of Commerce in Room 3720.

Docket Number: 10-064. Applicant: The University of Texas at Austin, Center for Electromechanics, Pickle Research Campus 10100 Burnet Road, Bldg. 133, Austin, Texas 78758-4497. Instrument: Hexapod Actuators. Manufacturer: ADS International, S.r.l., Italy. Intended Use: The instrument will be used on the Hobby-Eberly Telescope for the study of “Dark Energy.” The instrument is unique because of its ability to achieve the desired accuracy of +/− 2 microns, the stiffness of 400 N/micron, the end mounts ability to rotate up to +/− 20 degrees in two axes and a stiffness of 250 N/micron, is actively cooled, and is able to generate 30kN of continuous force for extended periods of time. Justification for Duty-Free Entry: There are no instruments of the same general category being manufactured in the United States. Application accepted by Commissioner of Customs: October 20, 2010.

Dated: October 29, 2010.
Gregory Campbell,
Acting Director, IA Subsidies Enforcement Office.

[FR Doc. 2010-27887 Filed 11-3-10; 8:45 am]

BILLING CODE 3510-DS-P